DEPARTMENT OF TRANSPORTATION

Federal Aviation Administration

14 CFR Part 39

[Docket No. FAA-2013-0698; Directorate Identifier 2012-NM-136-AD]

RIN 2120-AA64

Airworthiness Directives; Airbus Airplanes

AGENCY: Federal Aviation Administration (FAA), DOT.

ACTION: Notice of proposed rulemaking (NPRM).

SUMMARY: We propose to supersede airworthiness directive (AD) 2006-06-14, that applies to certain Airbus Model A318-100 and A319-100 series airplanes, A320-111 airplanes, A320-200 series airplanes, and A321-100 and A321-200 series airplanes. AD 2006-06-14 requires operators to review the airplane's maintenance records to determine the part numbers of the magnetic fuel level indicators (MFLIs) of the wing fuel tanks, and related investigative and corrective actions if necessary. Since we issued AD 2006-06-14, we received information that the related investigative actions of the existing AD are not fully effective and that an affected MFLI could still be installed on airplanes on which the related investigative actions were accomplished. This proposed AD would also require an inspection (improved method) to determine the part numbers of the MFLIs, and, if necessary, replacement of the MFLI or repair. We are proposing this AD to prevent an ignition source in the wing fuel tank in the event of a lightning strike, which could result in a fire or explosion.

DATES: We must receive comments on this proposed AD by October 4, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Comments Invited

We invite you to send any written relevant data, views, or arguments about this proposed AD. Send your comments to an address listed under the ADDRESSES section. Include “Docket No. FAA-2013-0698; Directorate Identifier 2012-NM-136-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On March 10, 2006, we issued AD 2006-06-14, Amendment 39-14523 (71 FR 15023, March 27, 2006), (“AD 2006-06-14”). That AD required actions intended to address an unsafe condition on Airbus Model A318-111 and -112 airplanes; Model A319-111, -112, -113, -114, -115, -131, -132, and -133 airplanes; A320-111 airplanes; Model A320-211, -212, -214, -231, -232, and -233 airplanes; Model A321-111, -112, and -131 airplanes; and Model A321-211, -212, -213, -231, and -232 airplanes.

Since we issued AD 2006-06-14, the European Aviation Safety Agency (EASA), which is the Technical Agent for the Member States of the European Community, has issued EASA Airworthiness Directive 2012-0119, dated July 4, 2012 (referred to after this as the Mandatory Continuing Airworthiness Information, or “the MCAI”), to correct an unsafe condition for the specified products. The MCAI states:

In 2005, several in-service occurrences were reported of finding wear and/or detachment of the top stop of magnetic fuel level indicators (MFLI), either observed during tank maintenance activities, or on MFLI returned to the MFLI manufacturer. The investigation results indicated that the wear of the top stop retaining `S' shaped wire had been caused by repetitive impact with the float, resulting in complete detachment of the top stop.

This condition, if not detected and corrected, could lead an MFLI top stop to come into contact with a probe, which could, in the event of a lightning strike, create an ignition source in the fuel tank vapour space, possibly resulting in a fuel tank explosion and consequent loss of the aeroplane.

DGAC France issued AD F-2005-108 (EASA approval 2005-6026) [http://ad.easa.europa.eu/ad/F-2005-108] [corresponding FAA AD 2006-06-14] to require identification (by inspection) and replacement of the affected metallic MFLI (3508802-xx series with the `S' shaped retaining wire) with a metallic MFLI with the top stop retained by a `trapped wire', or with a composite MFLI.

Since that [French] AD was issued, it has been identified that the inspection procedure (visual check) detailed in Airbus Service Bulletin (SB) A320-28-1138 was not fully effective, and that affected MFLI could still be fitted on aeroplanes which have passed the inspection in accordance with the instructions of this SB.

For the reasons described above, this [EASA] AD, which supersedes DGAC France AD F-2005-108, requires a one-time inspection (improved method) to identify the type of MFLI installed and, depending on findings, replacement or repair, as applicable. This [EASA] AD also prohibits the installation of the affected MFLI on any aeroplane as replacement parts.

The repair may also include locating and removing any missing top stop, and inspecting for any damage caused to the fuel tank by a missing top stop. You may obtain further information by examining the MCAI in the AD docket.

Relevant Service Information

Airbus has issued Service Bulletin A320-28-1209, dated December 12, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

Where the MCAI states in the compliance time “whichever occurs later,” this proposed AD would require “whichever occurs earlier.” We have determined that this compliance time would address the unsafe condition in a more timely manner. We considered the manufacturer's recommendation, and the overall risk to the fleet, including the severity of the failure and the likelihood of the failure's occurrence. Therefore, we find that a compliance time of 49,000 flight hours after May 1, 2006, or at the next scheduled fuel tank entry after the effective date of this AD, whichever occurs first, to complete the required actions to be warranted.

Costs of Compliance

Based on the service information, we estimate that this proposed AD would affect about 755 products of U.S. registry.

Estimated Costs
Action | Labor cost | Parts cost | Cost per product | Cost on U.S. operators
Parts numbers review [retained actions from AD 2006-06-14, Amendment 39-14523 (71 FR 15023, March 27, 2006)] | Between 1 and 8 work-hours × $85 per hour = Between $85 and $680 | None | Between $85 and $680 | Between $64,175 and $513,400
Inspection for part numbers [new proposed action] | 21 work-hours × $85 per hour = $1,785 | $0 | $1,785 | $1,347,675

We estimate the following costs to do any necessary replacement or repair that would be required based on the results of the proposed inspection. We have no way of determining the number of aircraft that might need the replacement or repair:

On-Condition Costs
Action | Labor cost | Parts cost | Cost per product
Replace or repair | 4 work-hours × $85 per hour = $340 | $0 | $340

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2006-06-14, Amendment 39-14523 (71 FR 15023, March 27, 2006), and adding the following new AD:

Airbus: Docket No. FAA-2013-0698; Directorate Identifier 2012-NM-136-AD.

(a) Comments Due Date

We must receive comments by October 4, 2013.

(b) Affected ADs

This AD supersedes AD 2006-06-14, Amendment 39-14523 (71 FR 15023, March 27, 2006).

(c) Applicability

This AD applies to Airbus Model A318-111, A318-112, A318-121, A318-122, A319-111, A319-112, A319-113, A319-114, A319-115, A319-131, A319-132, A319-133, A320-111, A320-211, A320-212, A320-214, A320-215, A320-216, A320-231, A320-232, A320-233, A321-111, A321-112, A321-131, A321-211, A321-212, A321-213, A321-231, and A321-232 airplanes; certificated in any category; all manufacturer serial numbers.

(d) Subject

Air Transport Association (ATA) of America Code 28: Fuel.

(e) Reason

This AD was prompted by a report of several in-service incidents of wear and detachment of the top-stops from magnetic fuel level indicators (MFLI) in a wing fuel tank. We are issuing this AD to prevent an ignition source in the wing fuel tank in the event of a lighting strike, which could result in a fire or explosion.

(f) Compliance

You are responsible for having the actions required by this AD performed within the compliance times specified, unless the actions have already been done.

(g) Retained Review of Airplane Maintenance Records/Investigative and Corrective Actions

This paragraph restates the requirements of paragraph (f) of AD 2006-06-14, Amendment 39-14523 (71 FR 15023, March 27, 2006). For Model A318-111 and -112 airplanes; Model A319-111, -112, -113, -114, -115, -131, -132, and -133 airplanes; A320-111 airplanes; Model A320-211, -212, -214, -231, -232, and -233 airplanes; Model A321-111, -112, and -131 airplanes; and Model A321-211, -212, -213, -231, and -232 airplanes; on which Airbus Modification 27496 has not been installed in production: Within 65 months or 6,500 flight hours after May 1, 2006 (the effective date of AD 2006-06-14), whichever is first, review the airplane's maintenance records to determine the part number (P/N) of each MFLI of the wing fuel tanks in accordance with the Accomplishment Instructions of Airbus Service Bulletin A320-28-1138, dated March 18, 2005. If the P/N cannot be identified, or the P/N is identified in the “old P/N” column of the table in paragraph 1.L., “Interchangeability/Mixability,” of Airbus Service Bulletin A320-28-1138, dated March 18, 2005, before further flight, do the applicable related investigative and corrective actions by accomplishing all of the actions in accordance with the Accomplishment Instructions of Airbus Service Bulletin A320-28-1138, dated March 18, 2005.

(h) Retained Parts Installation Prohibition

This paragraph restates the requirements paragraph (g) of AD 2006-06-14, Amendment 39-14523 (71 FR 15023, March 27, 2006). For Model A318-111 and -112 airplanes; Model A319-111, -112, -113, -114, -115, -131, -132, and -133 airplanes; A320-111 airplanes; Model A320-211, -212, -214, -231, -232, and -233 airplanes; Model A321-111, -112, and -131 airplanes; and Model A321-211, -212, -213, -231, and -232 airplanes; on which Airbus Modification 27496 has not been installed in production: As of May 1, 2006 (the effective date of AD 2006-06-14), no person may install on any airplane any MFLI of the wing fuel tanks with a P/N identified in the “old P/N” column of the table in paragraph 1.L., “Interchangeability/Mixability,” of Airbus Service Bulletin A320-28-1138, dated March 18, 2005.

(i) New Requirement of This AD: Inspection

For all airplanes, except as provided by paragraph (k) of this AD: At the next scheduled fuel tank entry after the effective date of this AD, or within 49,000 flight hours after May 1, 2006 (the effective date of AD 2006-06-14, Amendment 39-14523 (71 FR 15023, March 27, 2006), whichever occurs first, perform a special detailed inspection of the wing tank to determine which type of magnetic fuel level indicators (MFLI) are installed, in accordance with the Accomplishment Instructions of Airbus Service Bulletin A320-28-1209, dated December 12, 2011. A review of airplane maintenance records is acceptable in lieu of this inspection, if the part number and the type of the installed MFLI can be conclusively determined from that review. Paragraphs (i)(1) through (i)(11) of this AD identify the affected MLFI part numbers.

(1) 3508802-24

(2) 3508802-25

(3) 3508802-26

(4) 3508802-27

(5) 3508802-28

(6) 3508802-34

(7) 3508802-39

(8) 3508802-74

(9) 3508802-75

(10) 3508802-76

(11) 3508802-91

Note 1 to paragraph (i) of this AD: The affected MFLI have the `S'-shaped lock-wire design.

(j) New Requirement of This AD: Replacement or Repair

If, during the inspection required by paragraph (i) of this AD, a MFLI with the `S' shaped lock-wire design (Part Number (P/N) listed in paragraphs (i)(1) through (i)(11) of this AD) is found, then at the next scheduled fuel tank entry after the effective date of this AD, or within 49,000 flight hours after May 1, 2006 (the effective date of AD 2006-06-14, Amendment 39-14523 (71 FR 15023, March 27, 2006), whichever occurs first, replace the affected MFLI with a serviceable part and accomplish the corrective actions (repair), as applicable, in accordance with the Accomplishment Instructions of Airbus Service Bulletin A320-28-1209, dated December 12, 2011. For the purpose of this AD, a serviceable part is a composite MFLI, or a metallic MFLI with the top stop retained by a `trapped wire,' as applicable to the location identified in Table 1 of paragraph (j) of this AD.

Table 1 of Paragraph (j) of this AD—Metallic MFLI With the Top Stop Retained by a `Trapped Wire,' Including Applicable Location (FIN)
MFLI P/N | Applicable location (FIN)
3508802-35 | 56/57QM
3508802-36 | 58/59QM
3508802-37 | 60/61QM
3508802-38 | 62/63QM

(k) New Requirement of This AD: Exception for Paragraph (i) of This AD

Airplanes on which Airbus modification (mod) 27496 has been embodied in production, and on which no wing tank MFLI replacement with a part number listed in paragraph (i)(1) through (i)(11) of this AD has been made since first flight, are not affected by the requirement of paragraph (i) of this AD.

(l) New Requirement of This AD: Parts Installation Prohibition

As of the effective date of this AD, do not install on any airplane a MFLI with a part number listed in paragraph (i)(1) through (i)(11) of this AD.

(m) Other FAA AD Provisions

The following provisions also apply to This AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: M-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or its delegated agent, or by the Design Approval Holder with a State of Design Authority's design organization approval). For a repair method to be approved, the repair approval must specifically refer to this AD. You are required to assure the product is airworthy before it is returned to service.

(n) Special Flight Permits

Special flight permits, as described in Section 21.197 and Section 21.199 of the Federal Aviation Regulations (14 CFR 21.197 and 21.199), are not allowed.

(o) Related Information

(1) Refer to Mandatory Continuing Airworthiness Information (MCAI) European Aviation Safety Agency (EASA) Airworthiness Directive 2012-0119, dated July 4, 2012, for related information, which can be found in the AD docket on the Internet at http://www.regulations.gov.

(2) For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Issued in Renton, Washington, on August 9, 2013.
Jeffrey E. Duven,
Acting Manager, Transport Airplane Directorate, Aircraft Certification Service.

[FR Doc. 2013-20251 Filed 8-19-13; 8:45 am]

BILLING CODE 4910-13-P